DEPARTMENT OF HEALTH AND HUMAN SERVICES

National Institutes of Health

Proposed Collection; 60-Day Comment Request, National Institute on Drug Abuse (NIDA) Summer Research Internship Program

AGENCY: National Institutes of Health, HHS.

ACTION: Notice.

SUMMARY: In compliance with the requirement of the Paperwork Reduction Act of 1995 to provide opportunity for public comment on proposed data collection projects, the National Institute on Drug Abuse (NIDA) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Wilson Compton, Acting Director, Office of Research Training, Diversity, and Disparities, National Institute on Drug Abuse, 3WFN, 11601 Landsdown St., Room 09D18, North Bethesda, Maryland, 20892 or call non-toll-free number (301) 443-6480 or Email your request, including your address, to: Wilson.Compton@nih.gov. Formal requests for additional plans and instruments must be requested in writing.

SUPPLEMENTARY INFORMATION: Section 3506(c)(2)(A) of the Paperwork Reduction Act of 1995 requires written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: NIDA Summer Research Internship Program, 0925-0738, Expiration 12/31/2022, EXTENSION, National Institute on Drug Abuse (NIDA), National Institutes of Health (NIH).

Need and Use of Information Collection: The purpose of the proposed information is for the selection of interns for the continuing NIDA Summer Research Internship Program. This request is to allow NIDA to collect information from applicants in order to meet the goals of the program and IC mission. Applicant eligibility for this program is for those age 18 and over in the year of application per NIH policy document.

NIDA Summer Research Internship Program (NIDA-SIP) Policy. NIDA will request clearance for any additional forms should new programs be introduced in the future.

The information ensures that students applying to this program meet basic eligibility requirements; indicates their interest in substance abuse research, future career goals, and, if selected for the program, what research they prefer to conduct. The information also enables decision-making regarding which applicants will be selected for internships. In each case, completing the application is voluntary, but in order to receive due consideration, the prospective applicant must complete all fields required by the program. OMB approval is requested for 3 years. There are no costs to respondents other than their time. The total estimated annualized burden hours are 300.

Estimated Annualized Burden Hours
Form | Type of respondent | Number of respondents | Number of responses per respondent | Average burden per response (in hours) | Estimated total annual burden hours
Summer Internship | Individuals-household | 300 | 1 | 1 | 300
Total |  |  | 300 |  | 300

Dated: October 18, 2022.
Lanette A. Palmquist,
Project Clearance Liaison, National Institute on Drug Abuse, National Institutes of Health.

[FR Doc. 2022-22960 Filed 10-20-22; 8:45 am]

BILLING CODE 4140-01-P